DEPARTMENT OF THE TREASURY

Agency Information Collection Activities; Submission for OMB Review; Comment Request; Clean Energy Storytelling Program

AGENCY: Departmental Offices, Department of the Treasury.

ACTION: Notice of information collection; request for comment.

SUMMARY: The Department of the Treasury will submit the following information collection request to the Office of Management and Budget (OMB) for review and clearance in accordance with the Paperwork Reduction Act of 1995, on or after the date of publication of this notice. The public is invited to submit comments on this request.

DATES: Comments should be received on or before September 30, 2024 to be assured of consideration.

ADDRESSES: Written comments and recommendations for the proposed information collection should be sent within 30 days of publication of this notice to www.reginfo.gov/public/do/PRAMain. Find this particular information collection by selecting “Currently under 30-day Review—Open for Public Comments” or by using the search function.

FOR FURTHER INFORMATION CONTACT: Copies of the submissions may be obtained from Spencer W. Clark by emailing PRA@treasury.gov, calling (202) 927-5331, or viewing the entire information collection request at www.reginfo.gov.

SUPPLEMENTARY INFORMATION:

Title: Clean Energy Storytelling Program.

OMB Control Number: 1505-NEW.

Type of Review: Request for a new OMB Control Number.

Description: Treasury's Inflation Reduction Act Program Office proposes to establish a Clean Energy Storytelling Program that would engage the public and enable more effective communication of their Inflation Reduction Act (IRA) incentive and program-related stories.

The goal would be to increase awareness of the IRA's tax incentives and other impacts so that more Americans, companies, and non-profits are aware of and understand the benefits now available to them, thereby promoting uptake, and the IRA's broader purpose. Located on the Treasury.gov/IRA website, the Clean Energy Storytelling Program would feature a participation consent form and a series of questions. These forms are designed to offer a voluntary way for members of the public to share information about their experience with claiming IRA-related clean energy incentives or using IRS modernization programs and resources, and enable Treasury officials to communicate their stories to the broader American public.

Form: Clean Energy Storytelling Program Consent and Participation Forms.

Affected Public: Individuals & Households, Businesses.

Estimated Number of Respondents: 1,000.

Frequency of Response: Once.

Estimated Total Number of Annual Responses: 1,000.

Estimated Time per Response: 30 minutes.

Estimated Total Annual Burden Hours: 500.

Authority: 44 U.S.C. 3501 et seq.

Spencer W. Clark,
Treasury PRA Clearance Officer.

[FR Doc. 2024-19474 Filed 8-29-24; 8:45 am]

BILLING CODE 4810-AK-P